DEPARTMENT OF HEALTH AND HUMAN SERVICES

Food and Drug Administration

21 CFR Part 573

[Docket No. FDA-2018-F-3347]

Food Additives Permitted in Feed and Drinking Water of Animals; Chromium Propionate

AGENCY: Food and Drug Administration, Health and Human Services (HHS).

ACTION: Final rule; technical amendment.

SUMMARY: The Food and Drug Administration (FDA, we, or the Agency) is amending the regulations for food additives permitted in feed and drinking water of animals to provide for the safe use of chromium propionate.

DATES: This rule is effective August 12, 2020.

FOR FURTHER INFORMATION CONTACT: Chelsea Cerrito, Center for Veterinary Medicine, Food and Drug Administration, 7519 Standish Pl. (HFV-224), Rockville, MD 20855, 240-402-6729, Chelsea.Cerrito@fda.hhs.gov.

SUPPLEMENTARY INFORMATION: FDA is amending the regulations for food additives permitted in feed and drinking water of animals at 21 CFR 573.304 Chromium Propionate to more accurately reflect the approved conditions for the safe use of chromium propionate in horses.

Publication of this document constitutes final action under the Administrative Procedure Act (5 U.S.C. 704). FDA has determined that notice and public comment are unnecessary because this amendment to the regulations provides only technical changes to correct an inaccurate statement and is nonsubstantive.

List of Subjects in 21 CFR Part 573

Animal feeds, Food additives.

Therefore, under the Federal Food, Drug, and Cosmetic Act, and Public Health Service Act, and under the authority delegated to the Commissioner of Food and Drugs, 21 CFR part 573 is amended as follows:

PART 573—FOOD ADDITIVES PERMITTED IN FEED AND DRINKING WATER OF ANIMALS

1. The authority citation for part 573 continues to read as follows:

Authority: 21 U.S.C. 321, 342, 348.

§ 573.304 [Amended]

2. In § 573.304, in paragraphs (d)(1) and (e)(1), remove the word “complete”.

Dated: July 17, 2020.
Lauren K. Roth,
Associate Commissioner for Policy.

[FR Doc. 2020-15826 Filed 8-11-20; 8:45 am]

BILLING CODE 4164-01-P